FEDERAL ELECTION COMMISSION

Sunshine Act Notice

DATE AND TIME: Thursday, July 1, 2010, at 10 a.m.

PLACE: 999 E Street, NW., Washington, DC (Ninth Floor).

STATUS: This meeting will be open to the public.

Items To Be Discussed

Correction and Approval of Minutes.

Discussion of Audit Policies and Procedures.

Report of the Audit Division on the AFL-CIO COPE PCC.

Report of the Audit Division on CWA-COPE.

Report of the Audit Division on the Tennessee Republican Party Federal Election Account.

Report of the Audit Division on the Washington State Democratic Central Committee.

Management and Administrative Matters.

Individuals who plan to attend and require special assistance, such as sign language interpretation or other reasonable accommodations, should contact Darlene Harris, Deputy Commission Secretary, at (202) 694-1040, at least 72 hours prior to the hearing date.

PERSON TO CONTACT FOR INFORMATION: Judith Ingram, Press Officer. Telephone: (202) 694-1220.

Shawn Woodhead Werth,
Secretary and Clerk of the Commission.

[FR Doc. 2010-16100 Filed 7-2-10; 8:45 am]

BILLING CODE 6715-01-M